DEPARTMENT OF TRANSPORTATION

Federal Railroad Administration

[Docket Number FRA-2022-0023]

Petition for Waiver of Compliance

Under part 211 of title 49 Code of Federal Regulations (CFR), this document provides the public notice that on March 11, 2022, North Shore Railroad Company & Affiliates (NSHR) petitioned the Federal Railroad Administration (FRA) for a waiver of compliance from certain provisions of the Federal railroad safety regulations contained at 49 CFR 229.23, Periodic inspection: General. FRA assigned the petition Docket Number FRA-2022-0023.

Specifically, NSHR requests relief of the 92-day inspection requirements for four locomotives (LVRR 9050, LVRR 9052, NSHR 2017, and NSHR 2012) used in seasonal in-plant switching in Washingtonville, PA. NSHR states that cycling the locomotives in and out of the plant for periodic inspections in a timely manner is difficult, as the locomotives do not have active on-board positive train control apparatuses and the rail line connecting to the plant is owned by a different railroad carrier (Norfolk Southern Railway). NSHR proposes that two of the locomotives would be used for in-plant unloading of synthetic gypsum and two of the locomotives would serve as alternate units. When the alternate units are not in the plant, they would receive normal 92-day periodic inspections at the NSHR locomotive shop in Williamsport, PA.

NSHR notes that the locomotives would be utilized for in-plant switching and remain captive at the plant during a scheduled unloading season (March through November), and would only operate at restricted speed, not to exceed 10 miles per hour. NSHR explains that its proposed safety plan includes: (1) A comprehensive shop inspection (including a 92-day inspection by qualified locomotive mechanics) in advance of the seasonal work; (2) in-plant switching would be performed by certified NSHR employees who would perform daily inspections; and (3) a qualified locomotive mechanic would be dispatched to ensure safe operations while captive at the plant.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by May 13, 2022 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2022-06597 Filed 3-28-22; 8:45 am]

BILLING CODE 4910-06-P